DEPARTMENT OF HEALTH AND HUMAN SERVICES

Food and Drug Administration

21 CFR Part 20

[Docket No. 1999N-2637]

Public Information Regulations; Correction

AGENCY: Food and Drug Administration, HHS.

ACTION: Final rule; correction.

SUMMARY: The Food and Drug Administration (FDA) is correcting the public information regulations to correct an error that was incorporated in the regulations. This action is being taken to improve the accuracy of the regulations.

DATES: This correction is effective July 28, 2003.

FOR FURTHER INFORMATION CONTACT: Joyce A. Strong, Office of Policy and Planning (HF-27), Food and Drug Administration, 5600 Fishers Lane, Rockville, MD 20857, 301-827-7010.

SUPPLEMENTARY INFORMATION: In the Federal Register of May 12, 2003 (68 FR 25283), FDA published a final rule that, among other things, amended its regulations, in part 20 (21 CFR part 20). In § 20.120, the zip code for the Dockets Management Branch is incorrect. This document corrects that error.

§ 20.120 [Corrected]

1. On page 25287, in the second column, § 20.120 Records available in Food and Drug Administration Public Reading Rooms is corrected in the third sentence of paragraph (a) by removing “20857” and adding in its place “20852”.

Dated: November 14, 2003.
Jeffrey Shuren,
Assistant Commissioner for Policy.

[FR Doc. 03-28985 Filed 11-19-03; 8:45 am]

BILLING CODE 4160-01-S